DEPARTMENT OF HOMELAND SECURITY

Office of the Secretary

[Docket No. DHS-2008-0097]

Privacy Act of 1974; Federal Emergency Management Agency—007 National Flood Insurance Program Marketing Files System of Records

AGENCY: Privacy Office; DHS.

ACTION: Notice of Privacy Act system of records.

SUMMARY: In accordance with the Privacy Act of 1974, the Department of Homeland Security is giving notice that it proposes to consolidate three legacy record systems into a Department of Homeland Security system of records notice titled, Federal Emergency Management Agency National Flood Insurance Program Marketing Files: FEMA/FIMA-4 National Flood Insurance Program Marketing Records and Related Files (January 23, 2002), FEMA/FIMA-5 National Flood Insurance Program Telephone Response Center (TRC) Consumer and Policyholder Records and Related Documents Files (January 23, 2002), and FEMA/MIT-7 Flood Map Customer Records (June 8, 2001). This system will allow the Department of Homeland Security to market the Department of Homeland Security Federal Emergency Management Agency—006 National Flood Insurance Program. Categories of individuals, categories of records, and the routine uses of these legacy system of records notices have been consolidated and updated to better reflect the National Flood Insurance Program marketing record systems. This system will be included in the Department's inventory of record systems.

DATES: Written comments must be submitted on or before January 20, 2009. This new system will be effective January 20, 2009.

ADDRESSES: You may submit comments, identified by docket number DHS-2008-0097 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions please contact: Federal Emergency Management Agency Privacy Officer, Federal Emergency Management Agency. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/Federal Emergency Management Agency (FEMA) have relied on preexisting Privacy Act systems of records notices for the collection and maintenance of records pertaining to the marketing of the National Flood Insurance Program, which is administered by DHS/FEMA.

In 1968, Congress created the National Flood Insurance Program (NFIP) in response to the rising cost of taxpayer funded disaster relief for flood victims and the increasing amount of damage caused by floods.

Nearly 20,000 communities across the United States and its territories participate in the NFIP by adopting and enforcing floodplain management ordinances to reduce future flood damage. In exchange, the NFIP makes federally-backed flood insurance available to homeowners, renters, and business owners in these communities.

Typically, a home or business owner will seek flood insurance from an insurance company that provides other lines of business such as traditional car insurance or property and casualty homeowners insurance. In other cases, a mortgage lender will require flood insurance in addition to regular homeowner's insurance. If a home owner's insurance company participates in the NFIP's Write-Your-Own (WYO) program, and the home or business owner's building is located in a participating NFIP community, the home or business owner can purchase flood insurance.

The NFIP Marketing Files SORN allows DHS/FEMA to market the NFIP program to home and business owners whose homes/buildings are located in a participating NFIP community.

In accordance with the Privacy Act of 1974, the Department of Homeland Security is giving notice that it proposes to consolidate three legacy record systems into a Department of Homeland Security system of records notice titled, Federal Emergency Management Agency National Flood Insurance Program Marketing Files: FEMA/FIMA-4 National Flood Insurance Program Marketing Records and Related Files (67 FR 3193 January 23, 2002), FEMA/FIMA-5 National Flood Insurance Program Telephone Response Center (TRC) Consumer and Policyholder Records and Related Documents Files (67 FR 3193 January 23, 2002), and FEMA/MIT-7 Flood Map Customer Records (66 FR 30927 June 8, 2001). This system will allow the Department of Homeland Security to market the Department of Homeland Security Federal Emergency Management Agency—007 National Flood Insurance Program. Categories of individuals, categories of records, and the routine uses of these legacy systems of records notices have been consolidated and updated to better reflect the Department of Homeland Security's Federal Emergency Management Agency National Flood Insurance Program marketing record systems. This system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the Federal Emergency Management Agency National Flood Insurance Program Marketing Files System of Records.

In accordance with 5 U.S.C. 552a(r), DHS has provided a report of this system of records to the Office of Management and Budget (OMB) and to Congress.

System of Records

DHS/FEMA-007

System name:

Federal Emergency Management Agency—007 National Flood Insurance Program Marketing Files.

Security classification:

Unclassified.

System location:

Records are maintained at the Federal Emergency Management Agency Headquarters in Washington, DC and in field offices.

Categories of individuals covered by the system:

Categories of individuals covered by this system include individuals who apply for and individuals who are insured under the National Flood Insurance Program, Write-Your-Own companies, flood insurance agents and lenders, and individuals who request information on the National Flood Insurance Program.

Categories of records in the system:

Categories of records in this system include:

• Individual's name;

• Business's name;

• Addresses;

• Phone numbers;

• Account numbers or order numbers;

• Market research data regarding the NFIP, including information regarding awareness, attitudes, and satisfaction as it relates to the NFIP, which is obtained through qualitative surveys approved by the Office of Management and Budget (OMB);

• Telephone Response Center (TRC) records regarding research conducted with customers, insurance agents, Write-Your-Own (WYO) companies and individual respondents.

Authority for maintenance of the system:

Federal Records Act, 44 U.S.C. 3101; National Flood Insurance Act of 1968, as amended, and Flood Disaster Protection Act of 1973, as amended, 42 U.S.C 4001 et seq.

Purpose(s):

The purpose of this system is to market the National Flood Insurance Program.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records are retrieved by individual's name, business' name, addresses, telephone number, account number, or order number.

Safeguards:

Records in this system are safeguarded in accordance with applicable rules and policies, including all applicable DHS automated system security access policies. Strict controls have been imposed to minimize the risk of compromising the information that is being stored. Access to the computer system containing the records in this system is limited to those individuals who have a need to know the information for the performance of their official duties and who have appropriate clearances or permissions.

Retention and disposal:

Flood plain Management Files end at the close of each fiscal year, retired to the Federal Record Center, and destroyed ten years after cutoff, in accordance with FEMA Records Schedule N1-311-02-01, Item 4. Files generated in processing flood insurance policies under the continuing National Flood Insurance Program end when file becomes inactive and destroyed five years after cutoff, in accordance with FEMA Records Schedule N1-311-86-1, Item 1A13a(2).

System Manager and address:

Administrator, Federal Insurance and Mitigation Administration, Federal Emergency Management Agency Headquarters, 500 C Street, SW., Washington, DC 20472.

Notification procedure:

Individuals seeking notification of and access to any record contained in this system of records, or seeking to contest its content, may submit a request in writing to FEMA's FOIA Officer, 500 C Street, SW., Attn: FOIA Coordinator, Washington, DC 20472.

When seeking records about yourself from this system of records or any other FEMA system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the FEMA may not be able to conduct an effective search, and your request may be denied due to lack of specificity or lack of compliance with applicable regulations.

Record access procedures:

See “Notification procedure” above.

Contesting record procedures:

See “Notification procedure” above.

Record source categories:

Individual's who apply for and individuals who are insured under the National Flood Insurance Program, Write-Your-Own companies, flood insurance agents and lenders, and individuals who request information on the National Flood Insurance Program.

Exemptions claimed for the system:

None.

Dated: December 10, 2008.
Hugo Teufel III,
Chief Privacy Officer, Department of Homeland Security.

[FR Doc. E8-29812 Filed 12-18-08; 8:45 am]

BILLING CODE 4410-10-P